DEPARTMENT OF HOMELAND SECURITY

Coast Guard

33 CFR Part 100

[Docket No. USCG-2025-0811]

Special Local Regulations; Marine Events Within the Captain of the Port of Charleston

AGENCY: Coast Guard, DHS.

ACTION: Notification of enforcement of regulation.

SUMMARY: The Coast Guard will enforce special local regulations for the Swim Around Charleston on September 14, 2025, to provide for the safety of life on navigable waterways during this event. Our regulation for marine events within the Coast Guard Southeast District identifies the regulated area for this annual event in Charleston, SC. During the enforcement periods, the operator of any vessel in the regulated area must comply with directions from the Patrol Commander or any Official Patrol displaying a Coast Guard ensign.

DATES: The regulations in 33 CFR 100.704 will be enforced for the Swim Around Charleston event listed in Item No. 9 in Table 1 to § 100.704, from 7 a.m. until 2 p.m. on September 14, 2025.

FOR FURTHER INFORMATION CONTACT: If you have questions about this notification of enforcement, call or email Marine Science Technician First Class Thomas J. Welker, Sector Charleston Waterways Management Division, U.S. Coast Guard; telephone 843-740-3180 ext. 3339, email at CharlestonWaterways@uscg.mil.

SUPPLEMENTARY INFORMATION: The Coast Guard will enforce special local regulations in 33 CFR 100.704 for the Swim Around Charleston event listed in Item No. 9 in Table 1 to § 100.704, from 7 a.m. until 2 p.m. on September 14, 2025. This action is being taken to provide for the safety of life on navigable waterways during this swim event. Our regulation for Marine Events within the Captain of the Port Charleston, § 100.704, Table 1 to § 100.704, Item No. 9, specifies the location of the regulated areas for the Swim Around Charleston. Under the provisions of § 100.704(c), all persons and vessels are prohibited from entering the regulated area, except those persons and vessels participating in the event, unless they receive permission to do so from the Coast Guard Patrol Commander, or designated representative.

The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Shawn A. Lansing,
Captain, U.S. Coast Guard, Captain of the Port Sector Charleston.

[FR Doc. 2025-16916 Filed 9-3-25; 8:45 am]

BILLING CODE 9110-04-P